NUCLEAR REGULATORY COMMISSION

Advisory Committee on Nuclear Waste; Notice of Meeting

The Advisory Committee on Nuclear Waste (ACNW) will hold its 167th meeting on January 10-12, 2006, Room T-2B3, Two White Flint North, 11545 Rockville Pike, Rockville, Maryland.

The schedule for this meeting is as follows:

Tuesday, January 10, 2006

8:30 a.m.-8:45 a.m.: Opening Statement (Open)—The ACNW Chairman will make opening remarks regarding the conduct of today's sessions.

8:45 a.m.-10:15 a.m.: Status of Risk-Informed Decisionmaking for Nuclear Materials and Waste Application (Open)—The Committee will hear presentations by and hold discussions with representatives of the NRC staff regarding draft staff guidance on the application of risk insights in the waste and materials areas.

10:30 a.m.-11:30 a.m.: Fabrication of Pressurized Water Reactor (PWR) Uncanistered Fuel Waste Package (Open)—The Committee will hear presentations by and hold discussions with representatives of the NRC staff regarding fabrication of a pressurized water reactor uncanistered fuel waste package prototype for the proposed Yucca Mountain repository.

1 p.m.-2 p.m.: Spent Fuel Transportation Package Response to the Baltimore Tunnel Fire Scenario (NUREG/CR-6886) (Open)—The Committee will hear presentations by and hold discussions with representatives of the NRC staff regarding a study involving the 2001 Baltimore tunnel fire. The study involves the 3-dimensional modeling of the behavior of three different transportation cask types under thermal conditions similar to those that existed in the Baltimore tunnel fire event. The staff will also summarize comments received from the public on NUREG/CR-6886.

2 p.m.-3 p.m.: White Paper on Transportation (Open)—The Committee will discuss a proposed white paper on transportation of nuclear waste.

3:15 p.m.-5:30 p.m.: Preparation of ACNW Reports/Letters (Open)—The Committee will discuss proposed ACNW reports on matters considered during this and/or previous meetings.

Wednesday, January 11, 2006

9:30 a.m.-9:35 a.m.: Opening Statement (Open)—The ACNW Chairman will make opening remarks regarding the conduct of today's sessions.

9:35 a.m.-10:30 a.m.: Source Characterization (Spatial Analysis and Decision Assistance Code) (Open)—The Committee will hear presentations by and hold discussions with representatives of the NRC staff regarding the capabilities of Version 4.1 of the Spatial Analysis and Decision Assistance (SADA) Bayesian subsurface analysis code.

10:30 a.m.-11:30 a.m.: Use of Dedicated Trains for Transportation of High-Level Radioactive Waste and Spent Nuclear Fuel (Open)—The Committee will hear presentations by and hold discussions with a representative of the Federal Railroad Administration regarding their study on the use of dedicated trains for transportation of high-level radioactive waste and spent nuclear fuel to the proposed Yucca Mountain repository.

1 p.m.-2 p.m.: Preparation for Commission Briefing (Open)—The Committee will review the final presentations in preparation for the Commission briefing on January 11, 2006.

2 p.m.-4 p.m.: Meeting with the NRC Commissioners, Commissioners' Conference Room, One White Flint North, Rockville, MD (Open)—The Committee will meet with the NRC Commissioners to discuss recent and planned activities.

4:15 p.m.-5:30 p.m.: Preparation of ACNW Reports/Letters (Open)—The Committee will discuss proposed ACNW reports on matters considered during this and/or previous meetings.

Thursday, January 12, 2006

8:30 a.m.-8:35 a.m.: Opening Remarks by the ACNW Chairman (Open)—The ACNW Chairman will make opening remarks regarding the conduct of today's sessions.

8:35 a.m.-11:45 a.m.: Discussion of ACNW Reports/Letters (Open)—The Committee will discuss prepared draft letters and determine whether letters would be written on topics discussed during the meeting.

11:45 a.m.-12:45 p.m.: Miscellaneous (Open)—The Committee will discuss matters related to the conduct of ACNW activities, and specific issues that were not completed during previous meetings, as time and availability of information permit. Discussions may include future Committee Meetings.

Procedures for the conduct of and participation in ACNW meetings were published in the Federal Register on October 11, 2005 (70 FR 59081). In accordance with these procedures, oral or written statements may be presented by members of the public. Electronic recordings will be permitted only during those portions of the meeting that are open to the public. Persons desiring to make oral statements should notify Mr. Michael P. Lee (Telephone 301-415-6887), between 8:15 a.m. and 5 p.m. ET, as far in advance as practicable so that appropriate arrangements can be made to schedule the necessary time during the meeting for such statements. Use of still, motion picture, and television cameras during this meeting will be limited to selected portions of the meeting as determined by the ACNW Chairman. Information regarding the time to be set aside for taking pictures may be obtained by contacting the ACNW office prior to the meeting. In view of the possibility that the schedule for ACNW meetings may be adjusted by the Chairman as necessary to facilitate the conduct of the meeting, persons planning to attend should notify Mr. Lee as to their particular needs.

Further information regarding topics to be discussed, whether the meeting has been canceled or rescheduled, the Chairman's ruling on requests for the opportunity to present oral statements and the time allotted, therefore can be obtained by contacting Mr. Lee.

ACNW meeting agenda, meeting transcripts, and letter reports are available through the NRC Public Document Room (PDR) at pdr@nrc.gov, or by calling the PDR at 1-800-397-4209, or from the Publicly Available Records System component of NRC's document system (ADAMS) which is accessible from the NRC Web site at http://www.nrc.gov/reading-rm/adams.html or http://www.nrc.gov/reading-rm/doc-collections/ (ACRS & ACNW Mtg schedules/agendas).

Video Teleconferencing service is available for observing open sessions of ACNW meetings. Those wishing to use this service for observing ACNW meetings should contact Mr. Theron Brown, ACNW Audiovisual Technician (301-415-8066), between 7:30 a.m. and 3:45 p.m. ET, at least 10 days before the meeting to ensure the availability of this service. Individuals or organizations requesting this service will be responsible for telephone line charges and for providing the equipment and facilities that they use to establish the video teleconferencing link. The availability of video teleconferencing services is not guaranteed.

Dated: December 22, 2005.
Andrew L. Bates,
Advisory Committee Management Officer.

[FR Doc. E5-8088 Filed 12-28-05; 8:45 am]

BILLING CODE 7590-01-P